DEPARTMENT OF COMMERCE

Foreign-Trade Zones Board

[B-22-2025]

Foreign-Trade Zone (FTZ) 20; Withdrawal of Notification of Proposed Production Activity; LMFAKRO, LLC; (Wooden Attic Stair Products); Elizabeth City, North Carolina

Notice is hereby given of the withdrawal of the notification of proposed production activity submitted by LMFAKRO, LLC for its facility in Elizabeth City, North Carolina, within FTZ 20. The notification was docketed on April 3, 2025 (90 FR 15329, April 10, 2025). The withdrawal was requested by LMFAKRO, LLC on July 31, 2025.

Dated: July 31, 2025.
Elizabeth Whiteman,
Executive Secretary.

[FR Doc. 2025-14712 Filed 8-1-25; 8:45 am]

BILLING CODE 3510-DS-P